DEPARTMENT OF HOUSING AND URBAN DEVELOPMENT

[Docket No. FR-4874-N-01]

Public Housing Operating Fund; Notice of Availability of Information and Request for Comments

AGENCY: Office of the Assistant Secretary for Public and Indian Housing, HUD.

ACTION: Notice.

SUMMARY: Through this notice, HUD invites public housing agencies (PHAs), public housing residents, and other interested members of the public to HUD's Web site that provides information about the Public Housing Operating Fund Formula. The Operating Fund Formula determines the allocation of operating subsidies to PHAs. The Operating Fund Formula currently in effect was established by a March 29, 2001, interim rule, which followed a July 10, 2000, proposed rule developed through negotiated rulemaking procedures. The Web site continues the discussion of possible changes to the Operating Fund Formula, initiated during the development of and continuing through the recent release of a study of the cost of operating public housing conducted by the Harvard University Graduate School of Design. HUD's Web site presents issues for consideration and solicits comments from the public on the substance and form of a revised Operating Fund Formula.

DATES: Comment Due Date: Comments on the information posted on HUD's Web site will be accepted until January 30, 2004. HUD will update and revise this information on a periodic basis to reflect the availability of data and the public comments received to date. Accordingly, interested parties should visit HUD's Web site periodically during the comment period, and are invited to submit new or revised comments based on the updated information.

ADDRESSES: Interested persons are invited to submit comments regarding the information posted on HUD's Web site, http://www.hud.gov/offices/pih/divisions/ffmd/formulacomments.cfm. Comments must be submitted to: Opfund_Formula_Comments@hud.gov or Chris Kubacki, Public Housing Financial Management Division, Office of Public and Indian Housing—Real Estate Assessment Center, Department of Housing and Urban Development, 1250 Maryland Ave., SW., Suite 800, Washington, DC 20024-5000.

FOR FURTHER INFORMATION CONTACT: Chris Kubacki, Public Housing Financial Management Division, Office of Public and Indian Housing—Real Estate Assessment Center, Department of Housing and Urban Development, 1250 Maryland Ave., SW., Suite 800, Washington, DC 20024-5000; telephone (202) 708-4932 (this is not a toll-free number). Persons with hearing or speech impairments may access this number via TTY by calling the toll-free Federal Information Relay Service at 1-800-877-8339.

SUPPLEMENTARY INFORMATION:

I. Background

Section 9 of the United States Housing Act of 1937 (42 U.S.C. 1437g) establishes an Operating Fund for the purpose of making assistance available to PHAs for the operation and management of public housing. Section 9 also requires that the amount of the assistance to be made available to a PHA from that fund be determined using a formula developed through negotiated rulemaking procedures as provided in subchapter III of chapter 5 of title 5, United States Code, commonly referred to as the Negotiated Rulemaking Act of 1990.

Negotiated rulemaking for an Operating Fund Formula was initiated in March 1999, and consisted of 25 members representing PHAs, tenant organizations, community-based organizations, and the three national organizations representing PHAs—The Public Housing Authorities Directors Association (PHADA), the Council of Large Public Housing Authorities (CLPHA), and the National Association of Housing Redevelopment Officials (NAHRO). The negotiated rulemaking committee concluded with a proposed rule, published on July 10, 2000 (65 FR 42488), which was followed by an interim rule published on March 29, 2001 (66 FR 17276). The March 29, 2001, interim rule established the Operating Fund Formula that is currently in effect.

In accordance with Congressional direction, HUD contracted with the Harvard University Graduate School of Design (Harvard GSD) to conduct a study on the costs incurred in operating well-run public housing. The Harvard GSD performed extensive research on the question of what the expense level of managing public housing should be. HUD invited the members of the negotiated rulemaking committee to be active participants in Harvard GSD's research for and development of the Cost Study. The Harvard GSD also conducted several public meetings to allow for an exchange of views with the public housing industry, beyond those industry members who were part of the Operating Fund Formula negotiated rulemaking committee. The Cost Study was completed and officially released in July 2003, and the release of the Cost Study has prompted further discussion about changes to, and the future of, the Operating Fund Formula. A copy of the Cost Study and related documents may be downloaded from the Harvard GSD Web site (http://www.gsd.harvard.edu/research/research_centers/phocs/index.html).

II. This Notice

HUD believes that a reinitiation of the dialogue with the industry and the public on changes to the Operating Fund Formula that commenced with the development of the Cost Study and continued through its release, would be beneficial to the Department and the industry in focusing on changes that should be considered to the Operating Fund Formula. HUD is therefore making available on its Web site information and issues related to possible changes to the Operating Fund Formula (see HUD Web site at http://www.hud.gov/offices/pih/divisions/ffmd/formulacomments.cfm).

HUD is specifically seeking comments on the information posted on its Web site. Interested parties may submit comments on this information either electronically or by mail to the addresses listed in the ADDRESSES section above. Comments on the information posted on HUD's Web site will be accepted until January 30, 2004.

It is HUD's goal in posting this information to initiate an ongoing dialogue with interested members of the public. Accordingly, HUD will update and revise the information posted on its Web site on a periodic basis to reflect the availability of data and the public comments received to date. Interested parties should visit HUD's Web site periodically during the comment period, and are invited to submit new or revised comments based on the updated information. As part of this ongoing dialogue with the public, public housing residents, PHAs, and other interested parties on issues concerning possible changes to the Operating Fund Formula, HUD may also sponsor one or more meetings to further discuss changes to the Operating Fund Formula.

Dated: December 2, 2003.
Michael M. Liu,
Assistant Secretary for Public and Indian Housing.

[FR Doc. 03-30507 Filed 12-8-03; 8:45 am]

BILLING CODE 4210-33-P